DEPARTMENT OF TRANSPORTATION

Maritime Administration (MARAD)

[Docket No. DOT-MARAD 2016-0127]

Request for Comments of a Previously Approved Information Collection

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on August 30, 2016 (81 FR 59732).

DATES: Comments must be submitted on or before January 19, 2017.

FOR FURTHER INFORMATION CONTACT: Rodney McFadden, Office of Workforce Development, Maritime Administration, 1200 New Jersey Avenue SE., W23-457, Washington, DC 20590. Telephone: 202-366-2647; or email: rod.mcfadden@dot.gov.

SUPPLEMENTARY INFORMATION:

Title: Information to Determine Seamen's Reemployment Rights—National Emergency.

OMB Control Number: 2133-0526.

Type of Request: Renewal of a Previously Approved Information Collection.

Abstract: This collection is needed in order to implement Title 46, United States Code § 52101 which provides the procedures by which MARAD is able to certify that certain merchant seamen are entitled to reemployment rights after completion of their service on U.S. vessels during times of national emergency.

Affected Public: U.S. merchant seamen who have completed designated national service during a time of maritime mobilization need and are seeking re-employment with a prior employer.

Average Expected Annual Number of Activities: 10.

Estimated Number of Respondents: 10.

Estimated Number of Responses: 10.

Annual Estimated Total Annual Burden Hours: 10.

Frequency of Response: Annually.

Send comments regarding the burden estimate, including suggestions for reducing the burden, to the Office of Management and Budget, Attention: Desk Officer for the Office of the Secretary of Transportation, 725 17th Street NW., Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1.93.

By Order of the Maritime Administrator.
Dated: December 13, 2016.
T. Mitchell Hudson, Jr.,
Secretary, Maritime Administration.

[FR Doc. 2016-30650 Filed 12-19-16; 8:45 am]

BILLING CODE 4910-81-P